DEPARTMENT OF AGRICULTURE

Forest Service

Forest Service Handbook 2409.15, Chapters Zero, 10, 30, 50 and 70; Forest Service Handbook 2409.18a, Chapters Zero, 10, and 20; Forest Service Manual 2400, Chapters Zero, 30, 40, 50 and 60 Timber Management; Public Notice and Comment for Changes to Forest Service Directives

AGENCY: Forest Service, USDA.

ACTION: Notice of availability for public comment.

SUMMARY: The United States Department of Agriculture (USDA), United States Forest Service (Forest Service), is revising directives related to timber management, timber sale administration and timber sale debarment and suspension procedures.

DATES: Comments must be received in writing by November 16, 2020.

ADDRESSES: Comments may be submitted electronically to https://cara.ecosystem-management.org/Public/CommentInput?project=ORMS-2688. Written comments may be mailed to Dave Wilson, Acting Assistant Director, Forest Management, Range and Vegetation Ecology, 201 14th Street SW, Washington, DC 20024. All timely received comments, including names and addresses, will be placed in the record and will be available for public inspection and copying. The public may inspect comments received at https://cara.ecosystem-management.org/Public/ReadingRoom?project=ORMS-2688.

FOR FURTHER INFORMATION CONTACT: Dave Wilson, Acting Assistant Director, Forest Management, Range and Vegetation Ecology, at 202-578-9916 or by electronic mail to david.wilson@usda.gov. Individuals using telecommunication devices for the deaf may call the Federal Information Relay Service (FIRS) at 1-800-877-8339 between 8 a.m. and 8 p.m. Eastern Time, Monday through Friday.

SUPPLEMENTARY INFORMATION: The proposed directives reorganize and eliminate redundant policies and procedures, delete obsolete references and update agency policies and procedures to reflect new authorities and timber management practices that have been implemented since previous revisions to the directives were made available. An analysis of existing agency policy in Forest Service Handbooks and Manuals was conducted to identify revisions needed to support this initiative.

The proposed directives update Forest Service Handbook 2409.15, “Timber Sale Administration,” Chapters Zero, 10, 30, 50 and 70; Forest Service Handbook 2409.18a, “Timber Sale Debarment and Suspension Procedures,” Chapters Zero, 10, and 20; and Forest Service Manual 2400, “Timber Management,” Chapters Zero, 30, 40, 50 and 60. These directives set forth policy, responsibilities, and direction for several aspects of management and implement the agency's goal of providing more current direction. Forest Service National Environmental Policy Act (NEPA) procedures exclude from documentation in an environmental assessment or impact statement “rules, regulations, or policies to establish servicewide administrative procedures, program processes, or instructions.” 36 CFR 220.6(d)(2). The Agency's conclusion is that these final directives fall within this category of actions and that no extraordinary circumstances exist as currently defined that require preparation of an environmental assessment or an environmental impact statement.

The Forest Service has also determined that the changes to the manual and two handbooks formulate standards, criterion, or guidelines applicable to a Forest Service program and are therefore publishing the proposed manual for public comment in accordance with 36 CFR part 216. The Forest Service is seeking public comment on the proposed directives, including the sufficiency of the proposed directives in meeting its stated objectives, ways to enhance the utility and clarity of information within the direction, or ways to streamline processes outlined.

After the public comment period closes, the Forest Service will consider timely comments that are within the scope of the proposed directive in the development of the final directive. A notice of the final directive, including a response to timely comments, will be posted on the Forest Service's web page at https://www.fs.fed.us/about-agency/regulations-policies/comment-on-directives.

Jacqueline A. Emanuel,
Acting Associate Deputy Chief, National Forest System.

[FR Doc. 2020-22859 Filed 10-14-20; 8:45 am]

BILLING CODE 3411-15-P